DEPARTMENT OF TRANSPORTATION

Federal Aviation Administration

Public Notice for Waiver of Aeronautical Land-Use Assurance; Chan Gurney Municipal Airport,Yankton, SD

AGENCY: Federal Aviation Administration, DOT.

ACTION: Notice of intent of waiver with respect to land.

SUMMARY: The Federal Aviation Administration (FAA) is considering a proposal to authorize the release of 11.92 acres of the airport property at the Chan Gurney Municipal Airport, Yankton, South Dakota. The proposal consists of the trade of unimproved land on the northwest side of the airport owned by the City of Yankton for an equal parcel of land located on the north central side of the airport.

The acreage being released is not needed for aeronautical use as currently identified on the Airport Layout Plan. There are no impacts to the airport by allowing the City of Yankton to trade properties. Approval does not constitute a commitment by the FAA to financially assist in the disposal of the airport property nor a determination of eligibility for grant-in-aid funding from the FAA.

In accordance with section 47107(h) of title 49, United States Code, this notice is required to be published in the Federal Register 30 days before modifying the land-use assurance that requires the property to be used for aeronautical purpose.

DATES: Comments must be received on or before July 30, 2012.

ADDRESSES: Mr. Brian P. Schuck, Program Manager, Bismarck Airports District Office, 2301 University Drive, Building 23B, Bismarck, North Dakota, 58504.

FOR FURTHER INFORMATION CONTACT: Mr. Brian P. Schuck, Program Manager, Bismarck Airports District Office, 2301 University Drive, Building 23B, Bismarck, North Dakota. Telephone Number (701) 323-7380/FAX Number (701) 323-7399. Documents reflecting this FAA action may be reviewed at this same location or at the City of Yankton Finance Office, 416 Walnut Street, Yankton, South Dakota.

SUPPLEMENTARY INFORMATION: Following is a description of the subject airport property to be released at the Chan Gurney Municipal Airport.

This property for release is for a land trade at the Chan Gurney Municipal Airport owned by the City of Yankton, South Dakota. The property for release was originally acquired under Airport Improvement Program grant numbers 3-46-0062-007-1988 and 9-39-019-C503. These 11.92 acres are located in the sw quarter of section 30 and northwest quarter of section 31, Township 31 North, Range 55 West of the 5th Principle Meridian. The parcels are further described as Plat of Lot 1 of Tract 1 Airport Lot A15, Lot 1 of Tract 2 Airport Lot A15, Lots 1 & 2 of Parcel B in the SE¼ of Section 30 and Airport Lot A16 lying in Government Lot 1, Section 31, all in T 94 N, R 55 W, of the 5th P.M., Yankton, South Dakota.

Said parcels subject to all easements, restrictions, and reservations of record.

Issued in Bismarck, North Dakota on June 8, 2012.
Thomas T. Schauer,
Manager, Bismarck Airports District Office FAA, Great Lakes Region.

[FR Doc. 2012-15915 Filed 6-27-12; 8:45 am]

BILLING CODE 4910-13-P